DEPARTMENT OF DEFENSE

Department of the Army; Corps of Engineers

Intent To Prepare a Draft Environmental Impact Statement for the Shrewsbury River Basin, Monmouth County, NJ, Flood Control and Ecosystem Restoration Study: Feasibility Phase

AGENCY: Department of the Army, U.S. Army Corps of Engineers, DoD.

ACTION: Notice of intent.

SUMMARY: The U.S. Army Corps of Engineers (USACE), New York District (District), is preparing a Draft Environmental Impact Statement (DEIS) to ascertain compliance with and to lead to the production of a National Environmental Policy Act (NEPA) document in accordance with the President's Council of Environmental Quality (CEQ) Rules and Regulations, as defined and amended in 40 Code of Federal Regulations (CFR), parts 1500-1508, USACE principals and guidelines as defined in Engineering Regulation (ER) 1105-2-100, and other applicable Federal and State environmental laws for the proposed flood control and ecosystem restoration efforts in the Shrewsbury River Basin in Monmouth County, New Jersey.

The study area consists of the Shrewsbury River Basin, including the Shrewsbury River, Navesink River, and multiple tributaries. The Shrewsbury River Basin is a back-bay waterway located in northeastern Monmouth County, New Jersey, which discharges into Sandy Hook Bay at Highlands, New Jersey.

DATES: June 13, 2002, 2 p.m. to 5 p.m. and 7 p.m. to 9 p.m.

FOR FURTHER INFORMATION CONTACT: Ms. Melissa Alvarez, Project Biologist, Planning Division, U.S. Army Corps of Engineers, New York District, Jacob Javitz Federal Building, New York, NY 10278-0090, at (212) 264-2008.

SUPPLEMENTARY INFORMATION: This study is authorized by a U.S. House of Representatives Resolution dated May 7th, 1997, which reads: Resolved by the Committee on Transportation and Infrastructure of the United States House of Representatives, that the Secretary of the Army is requested to review the report of the Chief of Engineers on the Shore of New Jersey from Sandy Hook to Barnegat Inlet, published as House Document, 332, 85th Congress, 2nd Session, the Report of Limited Reconnaissance Study on the entire Shore of New Jersey, dated September 1990, and other pertinent reports, with a view to determining whether any modifications of the recommendations contained herein are advisable at the present time, in the interest of water resources development, environmental restoration, and other applied purposes.

1. Public scoping meetings are schedule for June 13, 2002 from 2 p.m. to 5 p.m. and from 7 p.m. to 9 p.m. The meetings will be held in Monmouth County at the Sea Bright Borough Hall gymnasium. Results from the public scoping meetings with the District, Federal, state, and local agency will be addressed in the DEIS. Parties interested in receiving notices of public scoping meetings or copies of the Scoping Document should contact Ms. Alvarez at the above address.

2. Federal agencies interested in participating as a Cooperating Agency are requested to submit a letter of intent to COL. John B. O'Dowd, District Engineer, at the above address.

3. Estimated date of DEIS availability: July 19, 2005.

Luz D. Ortiz,
Army Federal Register Liaison Officer.

[FR Doc. 02-11068 Filed 5-2-02; 8:45 am]

BILLING CODE 3710-06-M